DEPARTMENT OF COMMERCE

National Oceanic and Atmospheric Administration

RIN 0648-XQ002

Taking and Importing of Marine Mammals

AGENCY: National Marine Fisheries Service (NMFS), National Oceanic and Atmospheric Administration (NOAA), Commerce.

ACTION: Notice; 5-year affirmative finding for Colombia.

SUMMARY: The NMFS Assistant Administrator (Assistant Administrator) has issued a 5-year affirmative finding for the Government of Colombia under the Marine Mammal Protection Act (MMPA). This affirmative finding will allow importation into the United States of yellowfin tuna and yellowfin tuna products harvested in the eastern tropical Pacific Ocean (ETP) in compliance with the Agreement on the International Dolphin Conservation Program (AIDCP) by purse seine vessels operating under Colombian jurisdiction or exported from Colombia. NMFS bases the affirmative finding determination on reviews of documentary evidence submitted by the Government of Colombia and of information obtained from the secretariat of the Inter-American Tropical Tuna Commission (IATTC).

DATES: This affirmative finding is effective for the 5-year period of April 1, 2019, through March 31, 2024.

FOR FURTHER INFORMATION CONTACT: Justin Greenman, West Coast Region, National Marine Fisheries Service, 501 W Ocean Blvd., Suite 4200, Long Beach, CA 90802. Phone: 562-980-3264. Email: justin.greenman@noaa.gov.

SUPPLEMENTARY INFORMATION: The MMPA, 16 U.S.C. 1361 et seq., allows for importation into the United States of yellowfin tuna harvested by purse seine vessels in the ETP from a nation with jurisdiction over purse seine vessels with carrying capacity greater than 400 short tons that harvest tuna in the ETP only if the nation has an “affirmative finding” issued by the NMFS Assistant Administrator. See Section 101(a)(2)(B) of the MMPA, 16 U.S.C. 1371(a)(2)(B). If requested by the government of such a nation, the Assistant Administrator will determine whether to make an affirmative finding based upon documentary evidence provided by the government, the IATTC secretariat, or the Department of State.

The affirmative finding process requires that the harvesting nation is meeting its obligations under the AIDCP and its obligations of membership in the IATTC. Every 5 years, the government of the harvesting nation must request a new affirmative finding and submit the required documentary evidence directly to the Assistant Administrator. On an annual basis, NMFS reviews the affirmative finding and determines whether the harvesting nation continues to meet the requirements. A nation may provide information related to compliance with AIDCP and IATTC measures directly to NMFS on an annual basis or may authorize the IATTC to release the information to NMFS to annually renew an affirmative finding determination without an application from the harvesting nation.

An affirmative finding will be terminated, in consultation with the Secretary of State, if the Assistant Administrator determines that the requirements of 50 CFR 216.24(f) are no longer being met or that a nation is consistently failing to take enforcement actions on violations, thereby diminishing the effectiveness of the AIDCP.

As a part of the affirmative finding process set forth in 50 CFR 216.24(f)(8), the Assistant Administrator considered documentary evidence submitted by the Government of Colombia and obtained from the IATTC secretariat and has determined that Colombia has met the MMPA's requirements to receive an affirmative finding.

After consultation with the Department of State, the Assistant Administrator issued a 5-year affirmative finding to Colombia, allowing the importation into the United States of yellowfin tuna and products derived from yellowfin tuna harvested in the ETP by purse seine vessels operating under Colombian jurisdiction or exported from Colombia. Issuance of an affirmative finding for Colombia does not affect implementation of an intermediary nation embargo under 50 CFR 216.24(f)(9), which apply to exports from a nation that exports to the United States yellowfin tuna or yellowfin tuna products that was subject to a ban on importation into the United States under section 101(a)(2)(B) of the MMPA, 16 U.S.C. 1371(a)(2)(B). Colombia's affirmative finding is effective for the 5-year period of April 1, 2019, through March 31, 2024, subject to subsequent annual reviews by NMFS.

Dated: July 24, 2019.
Paul N. Doremus,
Deputy Assistant Administrator for Operations, National Marine Fisheries Service.

[FR Doc. 2019-16356 Filed 7-31-19; 8:45 am]

BILLING CODE 3510-22-P